POSTAL RATE COMMISSION

[Docket No. N2006-1; Order No. 1454]

Postal Service Network Realignment

AGENCY: Postal Rate Commission.

ACTION: Order.

SUMMARY: This document announces the appointment of an officer to represent the interests of the general public in a pending case. This appointment fulfills a statutory requirement.

ADDRESSES: Submit documents electronically via the Commission's Filing Online system at http://www.prc.gov.

FOR FURTHER INFORMATION CONTACT: Stephen L. Sharfman, general counsel, at 202-789-6820.

SUPPLEMENTARY INFORMATION:

Regulatory History

Postal Service Network Realignment Order, 71 FR 9613 (February 24, 2006).

In initiating this proceeding in Order No. 1453, the Commission stated that it would issue a subsequent order designating an individual to fulfill the requirement of section 3661(c) of title 39 that an “officer of the Commission who shall be required to represent the interests of the general public” participate in this case.¹

¹ Order No. 1453, February 17, 2006, at 3.

The Commission hereby designates Ms. April Boston, who currently serves as Special Assistant to Commissioner Tony Hammond, to represent the interests of the general public in this proceeding. The Office of the Consumer Advocate is directed to provide litigation and staff support to Ms. Boston in fulfilling her duties under this order. Pursuant to this designation, Ms. Boston will direct the activities of Commission personnel assigned to assist her and, upon request, will supply their names for the record.

Neither Ms. Boston nor any of the assigned personnel will participate in or provide advice on any Commission decision in this proceeding. Additionally, Ms. Boston will not advise the Commission in other matters currently pending, or in any proceedings that may be subsequently initiated, for the duration of this assignment.

Ordering Paragraphs

It is ordered:

1. April Boston, Special Assistant to Commissioner Tony Hammond, is designated to represent the interests of the general public in this proceeding.

2. The Office of the Consumer Advocate is directed to provide litigation and staff support to Ms. Boston in fulfilling her duties under this order.

3. The Secretary shall cause this order to be published in the Federal Register.

Issued: March 1, 2006.
By the Commission.
Steven W. Williams,
Secretary.

[FR Doc. E6-3184 Filed 3-6-06; 8:45 am]

BILLING CODE 7710-FW-P